DEPARTMENT OF TRANSPORTATION

Global Positioning System Adjacent Band Compatibility Assessment Workshop V Meeting

AGENCY: Office of the Assistant Secretary for Research and Technology (OST-R), Department of Transportation.

ACTION: Notice of meeting.

SUMMARY: The purpose of this notice is to inform the public that the U.S. Department of Transportation will host its fifth workshop on the Global Positioning System (GPS) Adjacent Band Compatibility Assessment effort. The purpose of this workshop is to discuss the results from testing of various categories of GPS/Global Navigation Satellite System (GNSS) receivers to include aviation (non-certified), cellular, general location/navigation, high precision and networks, timing, and space-based receivers. The workshop also will include a discussion on the development of use-case scenarios for these categories.

DATES:

Meeting date/time: October 14, 2016 10 a.m.-4 p.m. (Eastern Daylight Time).

Registration deadline: October 11, 2016. Request alternative meeting formats or services by October 7, 2016.

ADDRESSES: RTCA, Inc., 1150 18th St. NW., Suite 910, Washington, DC 20036.

Several days leading up to the workshop, an email containing the agenda, dial-in, and WebEx information will be provided.

FOR FURTHER INFORMATION CONTACT: Stephen M. Mackey, U.S. Department of Transportation, John A. Volpe National Transportation Systems Center, V-345, 55 Broadway, Cambridge, MA 02142, Stephen.Mackey@dot.gov 617-494-2753.

SUPPLEMENTARY INFORMATION: The goal of the GPS Adjacent Band Compatibility Assessment Study is to evaluate the adjacent radio frequency band power levels that can be tolerated by GPS/GNSS receivers, and advance the Department's understanding of the extent to which such power levels impact devices used for transportation safety purposes, among other GPS/GNSS applications. The Department obtained input from broad public outreach in development of its GPS Adjacent Band Compatibility Assessment Test Plan that included four public meetings with stakeholders on September 18 and December 4, 2014, and March 12 and October 2, 2015, public issuance of a draft test plan on September 9, 2015 (see 80 FR 54368), and comments received regarding the test plan. The final test plan was published March 9, 2016 (see 81 FR 12564) and requested voluntary participation in this Study by any interested GPS/GNSS device manufacturers or other parties whose products incorporate GPS/GNSS devices. In April 2016, radiated testing of GNSS devices took place in an anechoic chamber at the U.S. Army Research Laboratory at the White Sands Missile Range (WSMR) facility in New Mexico. Additional lab testing was conducted in July 2016 at Zeta Associates in Fairfax, Virginia and MITRE Corporation in Bedford, Massachusetts (see 81 FR 44408).

Registration

This workshop is open to the general public by registration only. For those who would like to attend the workshop, we request that you register no later than October 11, 2016. Please use the following link to register: https://volpecenterevents.webex.com/volpecenterevents/onstage/g.php?MTID=e856d4f062c520e41d0793b581a9ead82

You must include:

• Name

• Organization

• Telephone number

• Mailing and email addresses

• Attendance method (WebEx or on site)

• Country of citizenship

The U.S. Department of Transportation is committed to providing equal access to this workshop for all participants. If you need alternative formats or services because of a disability, please contact Stephen Mackey (see FOR FURTHER INFORMATION CONTACT section) with your request by close of business October 7, 2016.

Issued in Washington, DC, on September 26, 2016.
Gregory D. Winfree,
Assistant Secretary for Research and Technology.

[FR Doc. 2016-23791 Filed 9-30-16; 8:45 am]

BILLING CODE 4910-9X-P